DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than June 15, 2020.

Interested persons are invited to submit written comments regarding the subject matter of the investigations to the Administrator, Office of Trade Adjustment Assistance, at the address shown below, not later than June 15, 2020.

The petitions filed in this case are available for inspection at the Office of the Administrator, Office of Trade Adjustment Assistance, Employment and Training Administration, U.S. Department of Labor, Room N-5428, 200 Constitution Avenue NW, Washington, DC 20210.

Signed at Washington, DC, this 8th day of May 2020.
Hope D. Kinglock,
Certifying Officer, Office of Trade Adjustment Assistance.

Appendix

51 TAA Petitions Instituted Between 4/1/20 and 4/30/20
TA-W | Subject firm (petitioners) | Location | Date of institution | Date of petition
95858 | Medtronic Plc (State/One-Stop) | Warsaw, IN | 04/01/20 | 03/25/20
95859 | Olympus Corporation of the Americas (Company) | Center Valley, PA | 04/01/20 | 03/31/20
95860 | PanelArtz Inc. (State/One-Stop) | Kent, WA | 04/01/20 | 03/31/20
95861 | Philips Neuro (Workers) | Eugene, OR | 04/01/20 | 03/31/20
95862 | Pier 1 Imports (State/One-Stop) | Branson, MO | 04/01/20 | 03/31/20
95863 | Anthem Blue Cross Blue Shield-HOST Department (State/One-Stop) | Indianapolis, IN | 04/02/20 | 04/01/20
95864 | HCL, America (State/One-Stop) | Denver, CO | 04/02/20 | 04/01/20
95865 | Valveworks USA (State/One-Stop) | Bossier City, LA | 04/02/20 | 04/01/20
95866 | Change Healthcare (State/One-Stop) | Nashville, TN | 04/03/20 | 04/02/20
95867 | Siemens Government Technologies, Inc. (State/One-Stop) | Wellsville, NY | 04/06/20 | 04/03/20
95868 | UTC Fire & Security Americas Corporation, Inc. and Onity Inc. (State/One-Stop) | Salem, OR | 04/06/20 | 04/03/20
95869 | Essilor of America, Inc. (State/One-Stop) | Dallas, TX | 04/07/20 | 04/06/20
95870 | Frontier Communications (State/One-Stop) | Rochester, NY | 04/07/20 | 04/06/20
95871 | H & R Block (State/One-Stop) | Kansas City, MO | 04/07/20 | 04/03/20
95872 | Noah Horn Well Drilling (State/One-Stop) | Vansant, VA | 04/07/20 | 04/07/20
95873 | Palmer of Texas Tanks, Inc. a Synalloy Corporation (State/One-Stop) | Andrews, TX | 04/07/20 | 04/06/20
95874 | Paramount Industrial Companies, Inc. (State/One-Stop) | Norfolk, VA | 04/07/20 | 04/07/20
95875 | Safran (Company) | Huntington Beach, CA | 04/07/20 | 04/06/20
95876 | Novares US (State/One-Stop) | Livonia, MI | 04/08/20 | 04/07/20
95877 | Atchison Tubular Services (State/One-Stop) | Atchison, KS | 04/09/20 | 04/08/20
95878 | Gaming Partners International USA, Inc. (State/One-Stop) | Blue Springs, MO | 04/09/20 | 04/08/20
95879 | A&T Stainless (Union) | Midland, PA | 04/10/20 | 04/09/20
95880 | iQor Global Services LLC (State/One-Stop) | Memphis, TN | 04/10/20 | 04/08/20
95881 | MKEC working at Spirit (State/One-Stop) | Wichita, KS | 04/10/20 | 04/09/20
95882A | National Pen Tennessee, LLC (State/One-Stop) | Shelbyville, TN | 04/10/20 | 04/09/20
95882 | National Pen Tennessee, LLC (State/One-Stop) | Shelbyville, TN | 04/10/20 | 04/09/20
95883 | Teva Pharmaceuticals (State/One-Stop) | Forest, VA | 04/10/20 | 04/10/20
95883A | Leased Workers from ABM, Sodexo, Synovos, and GSOC (State/One-Stop) | Forest, VA | 04/10/20 | 04/10/20
95884 | Marvell Semiconductor Inc. (State/One-Stop) | Essex Junction, VT | 04/13/20 | 04/10/20
95885 | Schlumberger (State/One-Stop) | Denton, TX | 04/13/20 | 04/10/20
95886 | Collins Hardwood Company LLC (Union) | Richwood, WV | 04/14/20 | 04/10/20
95887 | EVRAZ Oregon Steel (EVRAZ Inc.) (State/One-Stop) | Portland, OR | 04/14/20 | 04/13/20
95888 | Western Forge (Company) | Colorado Springs, CO | 04/14/20 | 04/13/20
95889 | Workforce LogIQ on site at Spirit (State/One-Stop) | Wichita, KS | 04/14/20 | 04/14/20
95890 | Allura (State/One-Stop) | Terre Haute, IN | 04/17/20 | 04/17/20
95891 | HP Inc. (State/One-Stop) | Vancouver, WA | 04/17/20 | 04/15/20
95892 | Move Central, Inc. (State/One-Stop) | San Diego, CA | 04/17/20 | 04/16/20
95893 | Utility Trailer Manufacturing Company (State/One-Stop) | Glade Spring, VA | 04/20/20 | 04/17/20
95894 | Intrado Facilities, LLC (State/One-Stop) | Omaha, NE | 04/21/20 | 04/20/20
95894A | Intrado Interactive Services Corporation (State/One-Stop) | Omaha, NE | 04/21/20 | 04/20/20
95895 | Chart Energy and Chemical (Union) | La Crosse, WI | 04/22/20 | 04/21/20
95896 | Blue Bell Mattress (State/One-Stop) | Roseville, MI | 04/23/20 | 04/22/20
95897 | Daimler Trucks North America (Union) | Cleveland, NC | 04/23/20 | 04/22/20
95898 | Toppan Merrill (State/One-Stop) | Saint Paul, MN | 04/23/20 | 04/22/20
95899 | Art Van Furniture Tech (State/One-Stop) | Jackson, MI | 04/24/20 | 04/23/20
95900 | STARTEK USA, INC. (Company) | Grand Junction, CO | 04/24/20 | 04/23/20
95901 | Larco (State/One-Stop) | Crosette, AR | 04/28/20 | 04/27/20
95902 | American Crafts (State/One-Stop) | Kansas City, MO | 04/29/20 | 04/27/20
95903 | Powerohm Resistors/Division of Hubbell Industrial Controls (Company) | Katy, TX | 04/29/20 | 04/27/20
95904 | Utility Trailer Manufacturing Company (State/One-Stop) | Paragould, AR | 04/29/20 | 04/28/20
95905 | Donaldson Company Inc. (Union) | Stevens Point, WI | 04/30/20 | 04/29/20

[FR Doc. 2020-11936 Filed 6-2-20; 8:45 am]

BILLING CODE P